DEPARTMENT OF HOMELAND SECURITY

Coast Guard

[USCG-2003-15506]

Collection of Information under Review by Office of Management and Budget (OMB): OMB Control Numbers 1625-0052 (Formerly 2115-0563), 1625-0057 (Formerly 2115-0578), 1625-0033 (Formerly 2115-0135), 1625-0026 (Formerly 2115-0106), and 1625-0065 (Formerly 2115-0592)

AGENCY: Coast Guard, DHS.

ACTION: Request for comments.

SUMMARY: In compliance with the Paperwork Reduction Act of 1995, the Coast Guard intends to seek the approval of OMB for the renewal of five Information Collection Requests (ICRs). The ICRs comprise (1) Nondestructive Testing of Certain Cargo Tanks on Unmanned Barges, (2) Small Passenger Vessels, (3) Display of Fire-Control Plans for Vessels, (4) Approval of Plans and Records for Foreign Vessels Carrying Oil in Bulk, and (5) Offshore Supply Vessels. Before submitting the ICRs to OMB, the Coast Guard is inviting comments on them as described below.

DATES: Comments must reach the Coast Guard on or before September 5, 2003.

ADDRESSES: To make sure that your comments and related material do not enter the docket [USCG-2003-15506] more than once, please submit them by only one of the following means:

(1) By mail to the Docket Management Facility, U.S. Department of Transportation (DOT), room PL-401, 400 Seventh Street SW., Washington, DC 20590-0001. Caution: Because of recent delays in the delivery of mail, your comments may reach the Facility more quickly if you choose one of the other means described below.

(2) By delivery to room PL-401 on the Plaza level of the Nassif Building, 400 Seventh Street SW., Washington, DC, between 9 a.m. and 5 p.m., Monday through Friday, except Federal holidays. The telephone number is 202-366-9329.

(3) By fax to the Facility at 202-493-2251.

(4) Electronically through the Web site for the Docket Management System at http://dms.dot.gov.

(5) Electronically through Federal eRule Portal: http://www.regulations.gov.

The Facility maintains the public docket for this Notice. Comments and material received from the public, as well as documents mentioned in this Notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICRs are available through this docket on the Internet at http://dms.dot.gov, and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; or Dorothy Beard, Chief, Documentary Services Division, DOT, 202-366-5149, for questions on the docket.

SUPPLEMENTARY INFORMATION:

Public Participation and Request for Comments

We encourage you to participate in this request for comment by submitting comments and related materials. We will post all comments received, without change, to http://dms.dot.gov, and they will include any personal information you have provided. We have an agreement with DOT to use the Docket Management Facility. Please see DOT's “Privacy Act” paragraph below.

Submitting comments: If you submit a comment, please include your name and address, identify the docket number for this request for comment [USCG-2003-15506], indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this proposed rule in view of them.

Viewing comments and documents: To view comments, as well as documents mentioned in this preamble as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Privacy Act Statement of DOT in the Federal Register published on April 11, 2000 [65 FR 19477], or you may visit http://dms.dot.gov.

Information Collection Requests

1. Title: Nondestructive Testing of Certain Cargo Tanks on Unmanned Barges.

OMB Control Number: 1625-0052.

Summary: The Coast Guard uses the results of nondestructive testing to evaluate the suitability of older pressure-vessel-type cargo tanks of unmanned barges to remain in service. Once every ten years, it subjects such a tank on an unmanned barge 30 years old or older to nondestructive testing.

Need: Under 46 U.S.C. Chapter 37, the Coast Guard is responsible for ensuring safe shipment of dangerous liquid cargoes and has promulgated rules for certain barges to ensure that they meet safety standards.

Respondents: Owners of tank barges.

Frequency: Every 10 years.

Burden: The estimated burden is 72 hours a year.

2. Title: Small Passenger Vessels—46 CFR subchapters K and T.

OMB Control Number: 1625-0057.

Summary: The information is necessary for the proper administration and enforcement of the program on safety of commercial vessels as it affects small passenger vessels. Collecting it affects small passenger vessels (under 100 gross tons) that carry more than 6 passengers.

Need: Under the authority of 46 U.S.C. 3305 and 3306, the Coast Guard prescribes rules for the design, construction, alteration, repair, and operation of small passenger vessels to secure the safety of individuals and property on board. The Coast Guard uses the information in this collection to ensure compliance with the rules.

Respondents: Owners and operators of small passenger vessels.

Frequency: On occasion.

Burden: The estimated burden is 366,798 hours a year.

3. Title: Display of Fire-Control Plans for Vessels.

OMB Control Number: 1625-0033.

Summary: This collection of information takes the form of the posting or display of specific plans on certain categories of commercial vessels. The availability of these plans aids firefighters and damage-control efforts in response to emergencies.

Need: Under the authority of 46 U.S.C. 3305 and 3306, the Coast Guard prescribes rules for the design, construction, alteration, repair and operation of small passenger vessels to secure the safety of individuals and property on board. The Coast Guard uses the information in this collection to ensure compliance with the rules.

Respondents: Owners and operators of vessels.

Frequency: On occasion.

Burden: The estimated burden is 911 hours a year.

4. Title: Approval of Plans and Records for Foreign Vessels Carrying Oil in Bulk.

OMB Control Number: 1625-0026.

Summary: The Coast Guard collects plans and records to determine whether foreign tank vessels comply with applicable standards for design and construction.

Need: 46 U.S.C. 3703 authorizes the Coast Guard to prescribe rules for tank vessels, to prevent (among other things) pollution. 33 CFR part 157, subpart B, contains rules on design of tank vessels.

Respondents: Owners and operators of vessels.

Frequency: On occasion.

Burden: The estimated burden is 157 hours a year.

5. Title: Offshore Supply Vessels (OSVs)—46 CFR Subchapter L.

OMB Control Number: 1625-0065.

Summary: 46 U.S.C. 3305 and 3306 authorize the Coast Guard to prescribe rules for safety. 46 CFR Subchapter L promulgates such rules for OSVs.

Need: Requirements are necessary to instruct those on board of actions to take in an emergency. These requirements help verify compliance with rules without inspectors' presence to witness routine matters; they even enable OSVs based overseas to stay in compliance without undergoing reinspection here.

Respondents: Owners and operators of vessels.

Frequency: On occasion.

Burden: The estimated burden is 6,175 hours a year.

Dated: June 26, 2003.
Clifford I. Pearson,
Director of Information and Technology.

[FR Doc. 03-16964 Filed 7-3-03; 8:45 am]

BILLING CODE 4910-15-P